ENVIRONMENTAL PROTECTION AGENCY

[FRL-6945-2]

Announcement of a Stakeholder Meeting on Draft Information Strategy for the Office of Ground Water and Drinking Water

AGENCY: U.S. Environmental Protection Agency.

ACTION: Notice of a stakeholder meeting.

SUMMARY: The U.S. Environmental Protection Agency (EPA) has scheduled a two-day public meeting to obtain stakeholder input on issues, options and directions affecting the future of the national drinking water and source water information systems and related activities supporting the protection of public health.

DATES: The stakeholder meeting on the draft Information Strategy will be held on March 8-9, 2001, from 9 a.m. to 5:30 p.m. EST.

ADDRESSES: Resolve, Inc. (an EPA contractor) will provide logistical support for the stakeholders meeting. The meeting will be held at Resolve, Inc., 1255 23rd Street, NW, Suite 275, Washington, D.C. 20037.

FOR FURTHER INFORMATION CONTACT: For general information about the meeting, please contact Mr. Jeff Citrin at Resolve, Inc., 1255 23rd Street, NW, Suite 275, Washington, D.C. 20037; phone: (202) 965-6388; fax: (202)338-1264, or e-mail at jcitrin@resolv.org. For other information on the Information Strategy, please contact Jeffrey Bryan, at the U.S. Environmental Protection Agency, Phone: (202) 260-4934, Fax: (202) 401-3041, E-mail: bryan.jeffrey@epa.gov. Members of the public wishing to attend the meeting may register by phone by contacting Mr. Jeff Citrin by Feb. 20. Those registered by Feb. 20 will receive background materials prior to the meeting. There will be a limited number of teleconference lines available for those who are unable to attend in person. Information about how to access these lines will accompany the pre-meeting materials that will be mailed out to those who register.

SUPPLEMENTARY INFORMATION:

Background on the Draft Information Strategy and Request for Input

Information is critical to the management of national programs and shapes responses to rapidly changing events in the public health arena. Sound science and the best available data are the foundation of decisions that the EPA's Office of Ground Water and Drinking Water (OGWDW) make to protect public health and the environment. Information technology has improved, and the process for developing drinking water standards has changed significantly since OGWDW developed its most recent Information Strategic Plan in 1992. EPA must implement a strategy that responds to new technology and regulatory needs, maximizes efficiency and minimizes cost of data transactions, meets national water program needs, and links efficiently to relevant data sources. The strategy must be business-driven, incorporating the needs of stakeholders both inside and outside of EPA.

EPA encourages public input into questions that will allow OGWDW to make more informed decisions regarding its information systems and processes. Once implemented, the strategy will help OGWDW to better focus on essential business data, minimize reporting burden, obtain early involvement in information requirements for regulators, streamline the federal Safe Drinking Water Information System (SDWIS-FED) to reduce reporting errors, continue to support the state Safe Drinking Water Information System (SDWIS-STATE), and provide an information framework for source water protection. Questions for discussion include:

1. How will OGWDW ensure that it has the data it needs to implement its programs, address gaps (e.g., source water protection and underground injection control), and coordinate with other EPA programs?

2. What essential data does the primary enforcement authority need to track?

3. How should EPA obtain parametric (sampling) drinking water data to address future information requirements?

4. What changes should EPA make to minimize reporting burden for existing and upcoming rules?

5. What improvements to SDWIS should EPA make to allow for easier data entry by states?

6. How can OGWDW improve the performance of its information systems, given that any improvements would require states to make near-term adjustments to achieve long-term reporting benefits?

7. What steps should EPA take to improve data quality?

8. EPA primarily uses data for program tracking, policy development, rulemaking and enforcement, and public access. Are there other priority uses EPA should consider?

9. How will public access to drinking water data be improved?

10. What steps should be taken to make OGWDW information systems more economically efficient?

The public is invited to provide comments on the issues listed above or other issues related to the draft Information Strategy during the March 8-9, 2001 meeting.

Dated: February 9, 2001.
Cynthia Dougherty,
Director, Office of Ground Water and Drinking Water.

[FR Doc. 01-3870 Filed 2-14-01; 8:45 am]

BILLING CODE 6560-50-P